FEDERAL ELECTION COMMISSION

Notice of Meetings; Sunshine Act

AGENCY: Federal Election Commission.

Previously Scheduled Date and Time: Thursday, February 23, 2006, meeting open to the public. The following item was withdrawn from the agenda: Final audit report on CWA COPE political contributions committee.

Previously Scheduled Date and Time: Tuesday, February 28, 2006. Meeting open to the public. This meeting was cancelled.

Date and Time: Tuesday, March 7, 2006 at 10 a.m.

Place: 999 E Street, NW., Washington, DC.

Status: This meeting will be closed to the public.

Items to be Discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

Date and Time: Thursday, March 9, 2006 at 10 a.m.

Place: 999 E Street, NW., Washington, DC (Ninth floor).

Status: This meeting will be open to the public.

Items to be Discussed:

Correction and Approval of Minutes.

Advisory Opinion 2006-01: Pac for a Change by Douglas Boxer, Committee Director.

Advisory Opinion 2006-02: Robert Titley by counsel, Robert F. Bauer and Judith L. Corley.

Advisory Opinion 2006-06: Francine Busby for Congress by Brandon Hall, Campaign Manager.

Final Rules and Explanation and Justification for the Definitions of “To Solicit” and “To Direct” (11 CFR 300.2(m) and (n)).

Explanation and Justification for the Final Rules on Municipal Elections (11 CFR 100.24(a)).

Routine Administrative Matters.

FOR FURTHER INFORMATION CONTACT: Mr. Robert Biersack, Press Officer. Telephone: (202) 694-1220.

Mary W. Dove,
Secretary of the Commission.

[FR Doc. 06-2027 Filed 2-28-06; 2:56 pm]

BILLING CODE 6715-01-M